DEPARTMENT OF ENERGY

Office of Energy Efficiency and Renewable Energy

Hydrogen and Fuel Cell Technical Advisory Committee (HTAC)

AGENCY: Office of Energy Efficiency and Renewable Energy, Department of Energy.

ACTION: Notice of Open Meeting.

SUMMARY: The Hydrogen and Fuel Cell Technical Advisory Committee (HTAC) was established under section 807 of the Energy Policy Act of 2005 (EPACT), Public Law 109-58; 119 Stat. 849. The Federal Advisory Committee Act, Public Law 92-463, 86 Stat. 770, requires that agencies publish notice of an advisory committee meeting in the Federal Register. To attend the meeting and/or to make oral statements during the public comment period, please register no later than 5:00 p.m. on Tuesday, November 6, 2012 by email at: HTAC@nrel.gov. An early confirmation of attendance will help to facilitate access to the building more quickly. Entry to the building will be restricted to those who have confirmed their attendance in advance. Please provide your name, organization, citizenship, and contact information, and indicate whether you want to make an oral statement. Anyone attending the meeting will be required to present government issued identification.

DATES: Thursday, November 15, 2012, 9:00 a.m.-6:00 p.m. Friday, November 16, 2012, 9:00 a.m.-12:30 p.m.

ADDRESSES: National Renewable Energy Laboratory (NREL); 901 D Street SW., Suite 930; Washington, DC 20024.

FOR FURTHER INFORMATION CONTACT: HTAC@nrel.gov.

SUPPLEMENTARY INFORMATION: Purpose of the Meeting: To provide advice, information, and recommendations to the Secretary on the program authorized by Title VIII of EPACT.

Tentative Agenda: (updates will be posted on the web at: http://hydrogen.energy.gov).

• Public Comment

• DOE Program Updates

• Congressional Fuel Cell Caucuses

• NREL Reports on Hydrogen in Natural Gas Pipelines and Infrastructure Cost

• Natural Gas Drilling and Availability

• Future Transportation Fuels Study

• Northeast Initiative Update

• Overview of Hydrogen Analysis at University of California, Davis

• Department of Defense Hydrogen and Fuel Cells Update

Public Participation: The meeting is open to the public. Individuals who would like to attend must register no later than 5:00 p.m. on Tuesday, November 6, 2012, by email at: HTAC@nrel.gov. An early confirmation of attendance will help to facilitate access to the building more quickly. Entry to the building will be restricted to those who have confirmed their attendance in advance. Please provide your name, organization, citizenship, and contact information. Anyone attending the meeting will be required to present government-issued identification. Those wishing to make a public comment are required to register. The public comment period will take place between 9:00 a.m. and 9:30 a.m. on November 15, 2012. Time allotted per speaker will depend on the number who wish to speak but will not exceed 5 minutes. Those not able to attend the meeting or have insufficient time to address the committee are invited to send a written statement by email to: HTAC@nrel.gov.

Minutes: The minutes of the meeting will be available for public review at the following Web site: http://hydrogen.energy.gov.

Issued at Washington, DC, on October 23, 2012.
LaTanya R. Butler,
Acting Deputy Committee Management Officer.

[FR Doc. 2012-26516 Filed 10-26-12; 8:45 am]

BILLING CODE 6450-01-P